SURFACE TRANSPORTATION BOARD

[Docket No. AB 33 (Sub-No. 335X)]

Union Pacific Railroad Company—Discontinuance of Service Exemption—in McLennan County, Tex.

Union Pacific Railroad Company (UP) has filed a verified notice of exemption under 49 CFR pt. 1152 subpart F-Exempt Abandonments and Discontinuance of Service to discontinue service over approximately 1.3 miles of the former Mart Line near Waco, Tex., between milepost 173.7 and milepost 175.0 near Chapel Hill Road, in McLennan County, Tex. (the Line). The Line traverses United States Postal Service Zip Code 76705.¹

¹ UP filed this notice simultaneously with a verified notice of exemption to abandon a 0.5-mile portion of rail line that connects with the Line at milepost 173.7. That notice is being considered in a separate docket. See Union Pac. R.R.—Aban. Exemption—in McLennan Cty., Tex., AB 33 (Sub-No. 334X) (STB served April 9, 2018).

UP has certified that: (1) No local or overhead traffic has moved over the Line for at least two years; (2) there is no need to reroute any traffic over other lines; (3) no formal complaint filed by a user of rail service on the Line (or by a state or local government entity acting on behalf of such user) regarding cessation of service over the Line either is pending with the Surface Transportation Board (Board) or with any U.S. District Court or has been decided in favor of complainant within the two-year period; and (4) the requirements at 49 CFR 1105.7(c) (environmental report), 49 CFR. 1105.12 (newspaper publication), and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ² to subsidize continued rail service has been received, this exemption will be effective on May 9, 2018, unless stayed pending reconsideration. Petitions to stay that do not involve environmental issues and formal expressions of intent to file an OFA to subsidize continued rail service under 49 CFR 1152.27(c)(2) ³ must be filed by April 19, 2018.⁴ Petitions to reopen or requests for public use conditions under 49 CFR 1152.28 must be filed by April 30, 2018, with the Surface Transportation Board, 395 E Street SW, Washington, DC 20423-0001.

² The Board modified its OFA procedures effective July 29, 2017. Among other things, the OFA process now requires potential offerors, in their formal expression of intent, to make a preliminary financial responsibility showing based on a calculation using information contained in the carrier's filing and publicly available information. See Offers of Financial Assistance, EP 729 (STB served June 29, 2017); 82 FR 30,997 (July 5, 2017).

³ Each OFA must be accompanied by the filing fee, which is currently set at $1,800. See Regulations Governing Fees for Servs. Performed in Connection with Licensing & Related Servs.—2017 Update, EP 542 (Sub-No. 25), slip op. App. C at 20 (STB served July 28, 2017).

⁴ Because this is a discontinuance proceeding and not an abandonment, trail use/rail banking and public use conditions are not appropriate. Because there will be an environmental review during abandonment, this discontinuance does not require environmental review.

A copy of any petition filed with the Board should be sent to UP's representative: Jeremy M. Berman, 1400 Douglas St., #1580, Omaha, NE 68179.

If the verified notice contains false or misleading information, the exemption is void ab initio.

Board decisions and notices are available on our website at WWW.STB.GOV.

Decided: April 4, 2018.
By the Board, Scott M. Zimmerman, Acting Director, Office of Proceedings.
Marline Simeon,
Clearance Clerk.

[FR Doc. 2018-07223 Filed 4-6-18; 8:45 am]

BILLING CODE 4915-01-P